DEPARTMENT OF LABOR

Office of the Secretary

Submission for OMB Review; Comment Request

July 16, 2003.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation, contact Vanessa Reeves on 202-693-4124 (this is not a toll-free number) or E-Mail: reeves,vanessa2@dol.gov.

Comments should be sent to Office of Information and Regulatory Affairs, Attn: OMB Desk Officer for the Mine Safety and Health Administration (MSHA), Office of Management and Budget, Room 10235, Washington, DC 20503 (202-395-7316/this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Agency: Mine Safety and Health Administration.

Type of Review: Extension of currently approved collection.

Title: Ground Control Plan.

OMB Number: 1219-0026.

Affected Public: Business or other for-profit.

Frequency: On occasion.

Type of Response: Reporting.

Number of Respondents: 1,401.

Information collection requirements | Annual responses | Average response time (hours) | Annual burden hours
New Ground Control Plans | 168 | 9.00 | 1,512
Revised Ground Control Plans | 34 | 6.00 | 204
Total | 202 |  | 1,716

Total Annualized capital/startup costs: $0.

Total annual costs (operating/maintaining system or purchasing services): $267.

Description: 30 CFR 77.1000 and 77.1000-1 require that Ground Control Plans that are reviewed by MSHA to ensure that surface coal mine operators' methods of controlling highwalls and spoil banks are consistent with prudent engineering design and will ensure safe working conditions for miners.

Ira L. Mills,
Departmental Clearance Officer.

[FR Doc. 03-18967 Filed 7-24-03; 8:45 am]

BILLING CODE 4510-43-M